JUDICIAL CONFERENCE OF THE UNITED STATES

Hearings of the Judicial Conference Advisory Committees on Rules of Bankruptcy and Criminal Procedure, and the Rules of Evidence

AGENCY: Judicial Conference of the United States, Advisory Committees on Rules of Bankruptcy and Criminal Procedure, and the Rules of Evidence.

ACTION: Notice of proposed amendments and open hearings.

SUMMARY: The Advisory Committees on Rules of Bankruptcy and Criminal Procedure, and the Rules of Evidence have proposed amendments to the following rules:

Bankruptcy Rule: 9014.

Criminal Rules: 41; Rules Governing § 2254 Cases and § 2255. Proceedings and accompanying forms.

Rules Governing § 2254 Cases: 1, 2, 3, 4, 5, 6, 7, 8, 9, 10, and 11.

Rules Governing § 2255 Proceedings: 1, 2, 3, 4, 5, 6, 7, 8, 9, 10, 11, and 12.

Evidence Rule: 804.

The Judicial Conference Committee on Rules of Practice and Procedure submits these rules for public comment. All comments and suggestions with respect to them must be placed in the hands of the Secretary as soon as convenient and, in any event, not later than February 15, 2003. All written comments on the proposed rule amendments can be sent by one of the following three ways: By overnight mail to Peter G. McCabe, Secretary, Committee on Rules of Practice and Procedure of the Judicial Conference of the United States, Thurgood Marshall Federal Judiciary Building, Washington, DC 20002; by electronic mail via the Internet at http://www.uscourts.gov/rules; or by facsimile to Peter G. McCabe at (202) 502-1755. In accordance with established procedures all comments submitted on the proposed amendments are available to public inspection.

Public hearings are scheduled to be held on the amendments to:

• Bankruptcy Rules in Washington, DC, on January 24, 2003;

• Criminal Rules and Rules Governing § 2254 Cases and § 2255 Proceedings in Atlanta, Georgia, on January 31, 2003; and

• Evidence Rules in Washington, DC, on January 27, 2003.

Those wishing to testify should contact the Secretary at the address above in writing at least 30 days before the hearing.

The text of the proposed rule amendments and the accompanying Committee Notes can be found at the United States Federal Courts' Home Page at http://www.uscourts.gov/rules on the Internet.

FOR FURTHER INFORMATION CONTACT: John K. Rabiej, Chief, Rules Committee Support Office, Administrative Office of the United States Courts, Washington, DC 20544, telephone (202) 502-1820.

Dated: August 19, 2002.
John K. Rabiej,
Chief, Rules Committee Support Office.

[FR Doc. 02-21533 Filed 8-22-02; 8:45 am]

BILLING CODE 2210-55-M